DEPARTMENT OF HOMELAND SECURITY

Coast Guard

33 CFR Part 117

[Docket No. USCG-2022-0371]

RIN 1625-AA09

Drawbridge Operation Regulation; Atlantic Intracoastal Waterway (AICW) and Miami Beach Channel, Miami, FL

AGENCY: Coast Guard, Department of Homeland Security (DHS).

ACTION: Notice of temporary deviation from regulations; request for comments.

SUMMARY: The Coast Guard has issued a temporary deviation from the operating schedule that governs the West 79th Street Bridge crossing the Atlantic Intracoastal Waterway (AICW), mile 1084.6 at Miami, Florida, and the East 79th Street Bridge crossing Miami Beach Channel, mile 2.20 at Miami Beach, Florida. North Bay Village requested the Coast Guard consider placing additional weekday restrictions during rush hour on both drawbridges to assist with alleviating vehicle congestion. This deviation will test a proposed change to the drawbridge operation schedule to determine whether a permanent change to the schedule is needed. The Coast Guard is seeking comments from the public regarding these proposed changes.

DATES: This deviation is effective from 12:01 a.m. on October 1, 2022, through 11:59 p.m. on March 29, 2023.

Comments and relate material must reach the Coast Guard on or before December 29, 2022.

ADDRESSES: You may submit comments identified by docket number USCG-2022-0371 using Federal Decision Making Portal at https://www.regulations.gov.

See the “Public Participation and Request for Comments” portion of the SUPPLEMENTARY INFORMATION section below for instructions on submitting comments.

FOR FURTHER INFORMATION CONTACT: If you have questions on this test deviation, call or email Ms. Jennifer Zercher, Bridge Management Specialist, Seventh Coast Guard District; telephone 305-415-6740, email Jennifer.N.Zercher@uscg.mil.

SUPPLEMENTARY INFORMATION:

I. Background, Purpose and Legal Basis

The West 79th Street Bridge crossing the AICW, mile 1084.6, at Miami, FL, is a double-leaf bascule bridge with a 21 foot vertical clearance (25 feet charted at the center span) at mean high water in the closed position. The normal operating schedule for the bridge is set forth in 33 CFR 117.261 (mm-1). The East 79th Street Bridge crossing the Miami Beach Channel, mile 2.20, at Miami Beach, FL, is a double-leaf bascule bridge with a 21 foot vertical clearance at mean high water in the closed position. The normal operating schedule for the bridge is set forth in 33 CFR 117.304. Navigation on the waterways consists of recreational and commercial mariners.

North Bay Village with the support of the bridge owner, Florida Department of Transportation (FDOT), requested the Coast Guard consider allowing the drawbridges to remain closed to navigation during morning and evening rush hour with top of the hour openings provided at pre-determined times. North Bay Village is requesting this change to assist with alleviating vehicle traffic in the area.

On June 7, 2022, the Coast Guard published a notice of proposed rulemaking entitled, “Drawbridge Operation Regulation; Atlantic Intracoastal Waterway (AICW) and Miami Beach Channel, Miami, FL” in the Federal Register (87 FR 34601). We received one hundred twenty-six comments. Those comment will be addressed during the rulemaking.

Under this test deviation both drawbridges shall operate as follows, Monday through Friday, except Federal holidays, both drawbridges need only open on the hour between 7 a.m. and 10 a.m. Between 10 a.m. and 4 p.m., both drawbridges need only open on the hour and half hour. From 4 p.m. to 7 p.m., both drawbridges need only open on the hour. From 7 p.m. to 7 a.m., both drawbridges shall open on signal. Saturday, Sunday, and Federal holidays, both drawbridges shall open on signal. Vessels that can pass beneath the drawbridges without an opening may do so at any time.

The Coast Guard will also inform waterway users of the temporary change to the operating schedules via the Local and Broadcast Notice to Mariners so that vessel operators can arrange their transits to minimize any impact caused by the temporary deviation.

In accordance with 33 CFR 117.35(e), the drawbridges must return to their regular operating schedules immediately at the end of the effective period of this temporary deviation. This deviation from the operating regulations is authorized under 33 CFR 117.35.

II. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal Decision Making Portal at https://www.regulations.gov. To do so, go to https://www.regulations.gov, type USCG-2022-0371 in the search box and click “Search.” Next, look for this document in the Search Results column, and click on it. Then click on the Comment option. If your material cannot be submitted using https://www.regulations.gov, contact the person in the FOR FURTHER INFORMATION CONTACT section of this document for alternate instructions.

To view documents mentioned in this deviation as being available in the docket, find the docket as described in the previous paragraph, and then select “Supporting & Related Material” in the Document Type column. Public comments will also be placed in our online docket and can be viewed by following instructions on the https://www.regulations.gov Frequently Asked Questions web page. We review all comments received, but we will only post comments that address the topic of the deviation. We may choose not to post off-topic, inappropriate, or duplicate comments that we receive. Additionally, if you go to the online docket and sign up for email alerts, you will be notified when comments are posted or a final rule is published of any posting or updates to the docket.

We accept anonymous comments. Comments we post to https://www.regulations.gov will include any personal information you have provided. For more about privacy and submissions in response to this document, see DHS's eRulemaking System of Records notice (85 FR 14226, March 11, 2020).

Dated: September 19, 2022.
Randall D. Overton,
Director, Bridge Administration, Seventh Coast Guard District.

[FR Doc. 2022-21207 Filed 9-29-22; 8:45 am]

BILLING CODE 9110-04-P